DEPARTMENT OF ENERGY

Federal Energy Regulatory Commission

[Project No. 2146-111—Alabama and Georgia]

Alabama Power Company; Notice of Meeting To Conduct a Technical Conference for the Coosa River Project

December 21, 2006.

a. Date and Time of Meeting: Thursday, January 11, 2007, beginning at 9 a.m. (EST).

b. Place: Federal Energy Regulatory Commission, 888 First Street, NE., Washington, DC 20426.

c. FERC Contact: Janet Hutzel at (202) 502-8675 or e-mail at janet.hutzel@ferc.gov.

d. Purpose of Meeting: To discuss the additional information request, issued on December 8, 2006, for the Coosa River Project.

e. Proposed Agenda: 1. Introduction; 2. Meeting Objectives; and 3. Discussion of the information requested for: (a) project operations and engineering, (b) water and aquatic resources, (c) terrestrial resources, and (d) recreation resources.

f. A summary of the meeting will be prepared for the project's record.

g. All local, state, and federal agencies, Indian tribes, and other interested parties are invited to participate either in person or by phone. Please call Janet Hutzel at (202) 502-8675 by January 5, 2007, to RSVP and to receive specific instructions on how to participate.

h. FERC conferences are accessible under section 508 of the Rehabilitation Act of 1973. For accessibility accommodations please send an e-mail to accessibility@ferc.gov or call toll free (866) 208-3372 (voice) or 202-208-8659 (TTY), or send a FAX to 202-208-2106 with the required accommodations.

Magalie R. Salas,
Secretary.

[FR Doc. E6-22360 Filed 12-28-06; 8:45 am]

BILLING CODE 6717-01-P